DEPARTMENT OF ENERGY

Federal Energy Regulatory Commission

[Docket No. RP05-617-000]

Texas Gas Transmission, LLC; Notice of Technical Conference

December 15, 2005.

Take a notice that the Commission will convene a technical conference on Tuesday, January 10, 2006, at 10 a.m., in a room to be designated at the offices of the Federal Energy Regulatory Commission, 888 First Street, NE., Washington, DC 20426.

The technical conference will provide a forum to discuss the revised tariff sheet filed on August 31, 2005, by Texas Gas Transmission, LLC (Texas Gas). The tariff sheet and supporting workpapers reflect Texas Gas's annual filing to adjust its Effective Fuel Retention Percentages pursuant to section 16 of the General Terms and Conditions of its FERC Gas Tariff. The Commission directed its staff to convene this technical conference in an October 31, 2005 order establishing a technical conference.¹

¹ Texas Gas Transmission, LLC., 113 FERC ¶ 61,104 (2005).

FERC conferences are accessible under section 508 of the Rehabilitation Act of 1973. For accessibility accommodations please send an e-mail to accessibility@ferc.gov or call toll free (866) 208-3372 (voice) or 202-208-01659 (TTY), or send a fax to 202-208-2106 with the required accommodations.

All interested persons are permitted to attend. For further information please contact Michael Krauthamer at (202) 502-6159 or e-mail michael.krauthamer@ferc.gov.

Magalie R. Salas,
Secretary.

[FR Doc. E5-7754 Filed 12-22-05; 8:45 am]

BILLING CODE 6717-01-P